DEPARTMENT OF TRANSPORTATION

Coast Guard

33 CFR Part 165

[CGD09-01-136]

RIN 2115-AA97

Security Zone; Lake Erie, Toledo, OH

AGENCY: Coast Guard, DOT.

ACTION: Temporary final rule; correction.

SUMMARY: The Coast Guard published a temporary final rule on October 12, 2001, creating a security zone surrounding the waters off of Davis Besse Nuclear Power Plant near Toledo, Ohio. The original parameters of that zone blocked approximately 40 beachfront homes from beach access. In the interest of homeowners and recreational boaters within that zone, Captain of the Port (COTP) Toledo has readjusted the western boundary to allow these homeowners full access to their beachfront property, including use of recreational vessels off that beachfront property. The security zone is necessary to protect the Davis Besse Nuclear Power Plant from terrorist threats.

DATES: This rule is effective from April 2, 2002 through June 15, 2002.

FOR FURTHER INFORMATION CONTACT: LT Herb Oertli, Chief of Port Operations, Marine Safety Office, 420 Madison Ave, Suite 700, Toledo, Ohio 43604; (419) 418-6050.

Background and Purpose

The Coast Guard published a temporary final rule in the Federal Register on October 12, 2001, (66 FR 52038), to create a security zone in response to the September 11, 2001 terrorist attacks on the United States. We are changing the location of the western boundary of the security zone.

Need for Correction

Since publication, Captain of the Port Toledo has learned that a western boundary located more easterly or closer to the nuclear plant would allow local home-owners full beach access, including by recreational vessel. This readjustment in no ways compromises the intent of the original security zone. The regulation was published in response to the terrorist's attacks on the World Trade Center and the Pentagon on September 11, 2001. The security zone is intended to protect the life, property, and national security of U.S. citizens. These factors were considered along with the impact on local homeowners and recreational vessels in reestablishing the boundaries of this security zone.

Correction of Publication

In rule FR Doc. 01-25651, published on October 12, 2001, (66 FR 52038) make the following corrections. On page 52038, in the third column, lines 16-23, replace the sentence “The security zone consists of all navigable waters of Lake Erie within a line beginning from position 41°36.8′ N, 083°06.2′ W; north to 41°37.7′ N, 083°06.0′ W; east to 41°36.6′ N, 083°03.7′ W; south to 41°35.8′ N, 083°04.0′ W, back to the beginning point.” and add, in it's place, the sentences “The boundary of the security zone commences at 41°36.3′ N, 083°04.9′ W; north to 41°37.0′ N, 083°03.9′ W; east to 41°35.9′ N, 083°02.5′ W; south-west to 41°35.4′ N, 083°03.7′ W; then back to the starting point 41°36.3′ N, 083°04.9′ W. These coordinates are based upon North American Datum 1983.”; and on page 52039, in the third column, lines 24-31, remove the sentence “This security zone consists of all navigable waters of Lake Erie within a line beginning from position 41°36.8′ N, 083°06.2′ W; north to 41°37.7′ N, 083°06.0′ W; east to 41°36.6′ N, 083°03.7′ W; south to 41°35.8′ N, 083°04.0′ W, back to the beginning point.” and add, in it's place, the sentence “The boundary of the security zone commences at 41°36.3 N, 083°04.9′ W; north to 41°37.0′ N, 083°03.9′ W; east to 41°35.9′ N, 083°02.5′ W; south-west to 41°35.4′ N, 083°03.7′ W; then back to the starting point 41°36.3′ N, 083°04.9′ W.”

Dated: April 3, 2002.
David L. Scott,
Commander, U.S. Coast Guard, Captain of the Port Toledo, Toledo, OH.

[FR Doc. 02-9835 Filed 4-22-02; 8:45 am]

BILLING CODE 4910-15-P